ENVIRONMENTAL PROTECTION AGENCY

[ER-FRL-6643-3]

Environmental Impact Statements; Notice of Availability

Responsible Agency: Office of Federal Activities, General Information (202) 564-7167 or http://www.epa.gov/compliance/nepa.

Weekly receipt of Environmental Impact Statements

Filed August 18, 2003 through August 22, 2003.

Pursuant to 40 CFR 1506.9.

EIS No. 030387, Draft EIS, AFS, AL, Forest Health and Red-Cockaded Woodpecker (RCW) Initiative, Implementation, Talladega National Forest, Talladega and Shoal Creek Ranger Districts, Calhoun, Cherokee, Clay, Clebourne and Talladega Counties, AL, Comment Period Ends: October 14, 2003, Contact: Jeff Seefeldt (265) 362-2909.

EIS No. 030388, Draft EIS, CGD, WA, Seattle Monorail Project (SMP), Construct and Operate a 14-mile Monorail Transit System called the Green Line, Reviewing Green Line's water crossing at the Lake Washington Ship Canal Bridge and Duwamish Waterway Bridge Modification, USCG Bridge Permit, Endangered Species Act Section 7 Permit and U.S. Army COE Section 404 Permit, City of Seattle, WA, Comment Period Ends: October 14, 2003, Contact: Austin Pratt (206) 220-7282.

EIS No. 030389, Draft EIS, FHW, NC, Greensboro-High Point Road (NC-1486-NC-4121) Improvements from U.S. 311 (I-74) to Hilltop Road (NC-1424), Cities of Greensboro and High Point, the Town of Jamestown, Guilford County, NC, Comment Period Ends: October 14, 2003, Contact: John F. Sullivan (919) 856-4346.

EIS No. 030390, Final EIS, AFS, CO, Green Ridge Mountain Pine Beetle Analysis Project, Proposal to Reduce the Spread of Mountain Pine Beetle and Associated Tree Mortality, Medicine Bow-Routt National Forest and Thunder Basin National Grassland, Parks Ranger District, Jackson County, CO, Wait Period Ends: September 29, 2003, Contact: Terry De Lay (307) 326-2518. This document is available on the Internet at: http://www.fs.fed.us/mrnf.

EIS No. 030391, Draft EIS, NPS, MI, Pictured Rocks National Lakeshore, General Management Plan and Wilderness Study, Implementation, Lake Superior, Munising and Grand Marais, Alger County, MI, Comment Period Ends: November 23, 2003, Contact: Karen Gustin (906) 387-2607. This document is available on the Internet at: http://www.nps.gov/PIRO.

EIS No. 030392, Revised Draft EIS, NOA, AK, Alaska Groundfish Fisheries, New Information concerning the Ecosystem and Preferred Alternative, North Pacific Fishery Management Council, Fishery Management Plans for Groundfish Fishery. Gulf of Alaska and the Groundfish Fishery of the Bering Sea and Aleutain Islands Area, AK, Comment Period Ends: October 15, 2003, Contact: James W. Balsiger (907) 586-7221. This document is available on the Internet at: http://www.fakr.noaa.gov/sustainablefisheries/seis/default.com.

EIS No. 030393, Draft EIS, NOA, TX, MS, FL, LA, AL, Generic Essential Fish Habitat Amendment to the Fishery Management Plans of the Gulf of Mexico (GOM) for Shrimp Fishery; Red Drum Fishery; Spiny Lobster Fishery of the GOM and South Atlantic Coastal Migratory Pelagic Resources of GOM and South Atlantic, TX, LA, MS, FL and AL, Comment Period Ends: November 26, 2003, Contact: Roy E. Crabtree (727) 570-5301.

EIS No. 030394, Draft Supplement, NOA, ME, VT, CT, NY, DE, NH, MA, RI, NJ, MD, VA, NC, Essential Fish Habitat Components of Amendment 13 to the Northeast Multispecies Fishery Management Plan, Detailed Information on Rebuilding Overfished Stocks, Ending Overfishing and Reducing Unused Effort, New England Management Council, ME, NH, VT, MA, RI, CT, NY, NJ, DE, MD, VA and NC, Comment Period Ends: October 15, 2003, Contact: Paul Howard (978) 465-0492. This document is available on the Internet at: http://www.nefmc.org.

EIS No. 030395, Draft Supplement, AFS, WA, Deadman Creek Ecosystem Management Projects, Information on the Planning and Analysis of the Watershed, Three Rivers Ranger District, Colville National Forest, Ferry County, WA, Comment Period Ends: October 14, 2003, Contact: Tom Pawley (509) 738-6111.

EIS No. 030396, Final EIS, CGD, LA, Port Pelican Deepwater Port Construction and Operation, License Approval, Vermillion Lease Block 140 on the Continental Shelf in the Gulf of Mexico southwest of Freshwater City, LA, Wait Period Ends: October 2, 2003, Contact: Mark A. Prescott (202) 267-0225. This document is available on the Internet at: http://dms.dot.gov.

EIS No. 030397, Draft EIS, AFS, CO, Arapaho National Recreation Area Forest Health and Fuels Reduction Project, To Implement Pre-Suppression Measures on a Mountain Pine Beetle Infestation in Stands of Lodgepole Pine, Arapaho National Forest, Sulphur Ranger District, Grand County, CO, Comment Period Ends: October 14, 2003, Contact: Rick Caissie (970) 887-4112. This document is available on the Internet at: http://www.fs.fed.us/r2/districts/srd/arapaho-national-recreation-area/forest-health/Index.htm.

Dated: August 26, 2003.
Joseph C. Montgomery,
Director, NEPA Compliance Division, Office of Federal Activities.

[FR Doc. 03-22165 Filed 8-28-03; 8:45 am]

BILLING CODE 6560-50-P